DEPARTMENT OF THE INTERIOR

Minerals Management Service (MMS)

Record of Decision for the Cape Wind Energy Project; Secretary of the Interior's Response to Comments From the Advisory Council on Historic Preservation on the Cape Wind Energy Project

AGENCY: Minerals Management Service, Interior.

ACTION: Notice of Availability (NOA) of the Record of Decision (ROD) and Notice to the Public of the Secretary of the Interior's Response to Comments From the Advisory Council on Historic Preservation (ACHP).

SUMMARY: In accordance with the regulations implementing the National Environmental Policy Act of 1969 (NEPA), the MMS is announcing the availability of the ROD for the Cape Wind Energy Project (the Project). The ROD for the Project records the decisions that the MMS reached to select the Preferred Alternative at Horseshoe Shoal in Nantucket Sound described in its Final Environmental Impact Statement (January 2009). After careful consideration of all the concerns expressed during the lengthy review and consultation process and thorough analyses of the many factors involved, the Secretary approved the ROD finding that the public benefits weigh in favor of approving the Cape Wind Project at the Horseshoe Shoal location. The MMS will offer a commercial lease to Cape Wind Associates, LLC (CWA) in response to CWA's application. The CWA's rights to construct and operate the Project pursuant to the lease are subject to construction and operation approvals from the MMS. The Secretary of the Interior (the Secretary) and the Director of the MMS co-signed the ROD for the Project on April 28, 2010.

In accordance with the regulations implementing Section 106 of the National Historic Preservation Act of 1966 (NHPA), the public is also notified that on April 28, 2010, the Secretary responded to the April 2, 2010, comments of the ACHP concerning the Project. The ACHP provided comments to the Secretary following his termination of the Section 106 consultation on March 1, 2010. The Secretary's response explains his decision and indicates how the ACHP's comments were taken into account in his consideration of the effects of the project on historical and cultural resources. The Secretary provides a detailed response for each of the ACHP's comments and recommendations.

Authority: The NOA of the ROD is published pursuant to the regulations at 40 CFR 1506.6, implementing the provisions of NEPA (42 U.S.C. 4321 et seq.). The Notice to the Public of the Secretary of the Interior's Response to the ACHP is published pursuant to the regulations at 36 CFR 800.7(c)(4)(iii), implementing the provisions of NHPA (16 U.S.C. 470 et seq.).

SUPPLEMENTARY INFORMATION:

Cape Wind Energy Project Description

Following the passage of the Energy Policy Act of 2005 (EPAct) and amendments to the Outer Continental Shelf Lands Act (OCSLA), the Department of the Interior (the Department) was given statutory authority to issue leases, easements, or rights-of-way for renewable energy projects on the Outer Continental Shelf (OCS). The Secretary delegated this authority to the MMS. Subsequent to the enactment of EPAct, the MMS finalized regulations to process and permit offshore renewable energy projects in 2009. The CWA submitted an application to the MMS in 2005, prior to the promulgation of those regulations, to construct, operate, and eventually decommission an offshore wind power facility on Horseshoe Shoal in Nantucket Sound, offshore of Massachusetts.

The Project will be located completely on the OCS, except for transmission cables which will pass through Massachusetts' territory. The project calls for 130 3.6 megawatt wind turbine generators, each with a maximum blade height of 440 feet, to be arranged in a grid pattern in approximately 25 square miles of Nantucket Sound. With a maximum electric output of 468 megawatts and an average anticipated output of 182 megawatts, the facility is projected to generate up to three-quarters of the Cape and nearby islands' electricity needs. Each of the 130 wind turbine generators will generate electricity independently. Solid dielectric submarine inner-array cables from each wind turbine generator will interconnect within the array and terminate on an electrical service platform, which will serve as the common interconnection point for all of the wind turbines. The submarine transmission cable system from the electric service platform to the landfall location in Yarmouth will be approximately 12.5 miles in length (7.6 miles of which will fall within Massachusetts' territory).

Record of Decision

The decision to offer a commercial lease is based on the comprehensive environmental evaluation presented in the Final Cape Wind Energy Project Environmental Impact Statement (FEIS). The FEIS assessed the physical, biological, and socioeconomic impacts of the proposed project and 13 alternatives, including a no-action alternative. Since the FEIS was published in January 2009, the MMS prepared an Environmental Assessment (April 2010) to evaluate whether the MMS needed to supplement the FEIS based on new information pertaining to the project. The MMS determined that there was no new information that necessitated a reanalysis of the range of the alternatives or the kinds, levels, or locations of the impacts of the project and that the analyses, potential impacts, and conclusions detailed in the FEIS were still valid. The MMS concluded that a supplemental EIS was not required.

The ROD summarizes the alternatives considered, the decision, the basis for the decision, the environmentally preferable alternative, adopted mitigation measures, and bureau undertakings to involve the public, other Federal and state agencies, and affected Indian tribes. The ROD discusses the Secretary and MMS's careful balancing of the need to diversify the Nation's energy portfolio, advance energy independence, combat climate change, and create jobs with the need to protect and preserve the rich environmental and cultural resources in Nantucket Sound. The ROD identifies and adopts a suite of mitigation measures and monitoring requirements deemed practicable to avoid or minimize the environmental harm that could result from the project.

Prior to construction and commercial operation of facilities, CWA must submit, and obtain the MMS's approval of, its Construction and Operations Plan (COP). The MMS reserves the right to approve, disapprove, or approve with modifications the COP, pursuant to the Renewable Energy Final Rule and other applicable regulations.

Secretary of the Interior's Response to the Advisory Council on Historic Preservation (ACHP)

The ACHP provided comments and recommendations to the Secretary concerning the potential adverse effects of the Project, following the Secretary's decision to terminate Section 106 consultations. In its comments and recommendations, the ACHP indicated that the effects on historic properties and cultural resources from the Project would be direct and indirect, could not be avoided, and could not be satisfactorily mitigated. The ACHP reached this conclusion based on its finding that the project would adversely affect the viewsheds of 34 historic and/or traditional cultural properties in the area and potentially adversely affect other cultural resources located on the seafloor or buried in the Nantucket Sound. Regulations at 36 CFR 800.7(c)(4), implementing Section 106 of the NHPA, require the Secretary to prepare a response to the ACHP and make that response available to the public. The Secretary's response, transmitted on April 28, 2010, describes the Department and the MMS's efforts to identify, assess, avoid, and minimize potential impacts on traditional cultural resources and historic properties. The Department and the MMS participated in numerous Section 106 meetings with consulting and interested parties, as well as Government-to-Government meetings with the Wampanoag Tribe of Gay Head (Aquinnah) and the Mashpee Wampanoag Tribe. The Department complied with the Section 106 process for the Project. The Secretary took into account the Council's comments and documented the decision.

The Secretary's response provides a detailed description of project design changes and mitigation measures adopted by the MMS, as well as other Federal and state agencies to avoid and minimize potential visual and bottom-disturbing impacts.

Availability of the ROD and Secretary's Response

To obtain a single printed copy of the ROD or the Secretary's Response to the ACHP, you may contact the Minerals Management Service, Office of Offshore Alternative Energy Programs (Mail Stop 4080), 381 Elden Street, Herndon, Virginia 20170. An electronic copy of the ROD and Secretary's Response is available at the MMS's Web site at: http://www.doi.gov/news/doinews/Secretary-Salazar-Announces-Approval-of-Cape-Wind-Energy-Project-on-Outer-Continental-Shelf-off-Massachusetts.cfm.

FOR FURTHER INFORMATION CONTACT: Minerals Management Service, Ms. Maureen Bornholdt, Office of Offshore Alternative Energy Programs, 381 Elden Street, Herndon, Virginia 20170, (703) 787-1300.

Dated: June 7, 2010.
Robert P. LaBelle,
Acting Associate Director for Offshore Energy and Minerals Management.

[FR Doc. 2010-14528 Filed 6-15-10; 8:45 am]

BILLING CODE 4310-MR-P